DEPARTMENT OF AGRICULTURE

Natural Resources Conservation Service

South River Watershed Structures Numbers 23, 25 and 26, Augusta County, VA

AGENCY: Natural Resources Conservation Service.

ACTION: Notice of a Finding of No Significant Impact.

SUMMARY: Pursuant to Section 102[2][c] of the National Environmental Policy Act of 1969, the Council on Environmental Quality Regulations [40 CFR part 1500]; and the Natural Resources Conservation Service Regulations [7 CFR part 650]; the Natural Resources Conservation Service, U.S. Department of Agriculture, gives notice that an environmental impact statement is not being prepared for South River Watershed Dams Numbers 23, 25 and 26, Augusta County, Virginia.

FOR FURTHER INFORMATION CONTACT: Denise Doetzer, State Conservationist, Natural Resources Conservation Service, 1606 Santa Rosa Road, Suite 209, Richmond, Virginia 23229. Telephone (804) 287-1691, E-Mail Denise.Doetzer@va.usda.gov.

SUPPLEMENTARY INFORMATION: The Environmental Assessment of this federally assisted action indicates that the project will not cause significant local, regional, or national impacts on the environment. As a result of these findings, Denise Doetzer, State Conservationist, has determined that the preparation and review of an environmental impact statement is not needed for this project.

The project purpose is continued flood prevention. The planned works of improvement include upgrading three existing floodwater retarding structures.

The Notice of a Finding of No Significant Impact [FONSI] has been forwarded to the U.S. Environmental Protection Agency and to various Federal, State, and local agencies and interested parties. A limited number of the FONSI are available to fill single copy requests at the above address. Basic data developed during the environmental assessment are on file and may be reviewed by contacting Denise Doetzer at the above number.

No administrative action on implementation of the proposal will be taken until 30 days after the date of this publication in the Federal Register.

M. Denise Doetzer,
State Conservationist.
[This activity is listed in the Catalog of Federal Domestic Assistance under 10.904, Watershed Protection and Flood Prevention, and is subject to the provisions of Executive Order 12372, which requires inter-government consultation with State and local officials].

Introduction

The South River Watershed Rehabilitation Project is a federally assisted action authorized for planning under Public Law 106-472, the Small Watershed Rehabilitation Act, which amends Public Law 83-566, the Watershed Protection and Flood Prevention Act. An environmental assessment was undertaken in conjunction with development of the supplemental watershed plan. This assessment was conducted in consultation with local, State, and Federal agencies as well as with interested organizations and individuals. Data developed during the assessment are available for public review at the following location: U.S. Department of Agriculture, Natural Resources Conservation Service, 1606 Santa Rosa Road, Suite 209, Richmond, Virginia 23229-5014.

Recommended Action

This document describes a plan for upgrading three existing floodwater retarding structures, South River Watershed Dams Numbers 23, 25 and 26, to meet current dam design and safety criteria in the Commonwealth of Virginia. The plan calls for the widening and/or armoring of the auxiliary spillways, and raising the height of the top of each dam 4-5 feet through the construction of parapet walls. Works of improvement will be accomplished by providing financial and technical assistance through an eligible local sponsor.

The principal project measures are to:

1. Raise the top of each dam 4-5 feet by installing a concrete parapet wall on the upstream side of the dam crest. The auxiliary spillways will be widened and/or armored with articulated concrete blocks. These are the major structural components of the project. There are a number of smaller improvements such as elevating and lengthening the training dikes, cleaning the dam toe drains, replacing the square risers with rectangular risers, removing trees from the abutments, and improving the access road.

2. The measures will be planned and installed by developing a project agreement with the current operator of the dam.

Effects of Recommended Action

Making the proposed improvements will bring these three South River Watershed Dams into compliance with current dam design and safety criteria. This will essentially eliminate the risk to loss of life for individuals in 191 homes, 10 commercial buildings, 2 churches, 3 major roads and 13 residential roads downstream. The daily traffic counts for the three major roads total about 3,700 vehicles. Additional effects will include continued protection against flooding, continued water quality benefits, continued fishing activities, continued recreational opportunities, protected land values, protected road and utility networks, and reduced maintenance costs for public infrastructure.

Wildlife habitat will not be disturbed during installation activities. No wetlands, wildlife habitat, fisheries, prime farmland, or cultural resources will be destroyed or threatened by this project. About 3.75 acres of wetland and wetland type wildlife habitat will be preserved. Fishery habitats will also be maintained.

No endangered or threatened plant or animal species will be impacted by the project.

There are no wilderness areas in the watershed.

There are no planned mitigation requirements for the project.

No significant adverse environmental impacts will result from the dam rehabilitation measures except for minor inconveniences to local residents during construction.

Alternatives

Six alternative plans of action were considered in project planning. No significant adverse environmental impacts are anticipated from installation of the selected alternative. Also, the planned action is the most practical, complete, and acceptable means of protecting life and property of downstream residents.

Consultation and Public Participation

Original sponsoring organizations include the Augusta County Board of Supervisors, the City of Waynesboro, and the Headwaters Soil and Water Conservation District. At the initiation of the planning process, meetings were held with representatives of the original sponsoring organizations to ascertain their interest and concerns regarding the South River Watershed. The Headwaters Soil and Water Conservation District agreed to serve as “lead sponsor” being responsible for leading the planning process with assistance from NRCS. As lead sponsor they also agreed to provide non-federal cost-share, property rights, operation and maintenance, and public participation during, and beyond, the planning process. Meetings with the project sponsors were held throughout the planning process.

An Interdisciplinary Planning Team provided planning assistance for this project. Planning guidelines included the NRCS nine-step planning process and planning procedures outlined in the NRCS National Watershed Manual. Examples of tasks completed by the Planning Team include, but are not limited to, preliminary investigations, hydrologic analyses, reservoir sedimentation surveys, economic analyses, formulating and evaluating alternatives, and writing the Supplemental Watershed Plan—Environmental Assessment. Data collected from partner agencies, databases, landowners, and others throughout the entire planning process were evaluated at Planning Team meetings. Informal discussions amongst Planning Team members, partner agencies, and landowners were conducted throughout the entire planning period.

A scoping meeting was held on February 13, 2004 to identify issues of economic, environmental, cultural, and social concerns in the watershed. Representatives from the Virginia Department of Conservation and Recreation's Division of Dam Safety and Floodplain Management and the Division of Soil and Water Conservation, the Virginia Department of Emergency Management, the Virginia Department of Transportation, the Virginia Department of Environmental Quality, the Virginia Department of Forestry, the Virginia Department of Game and Inland Fisheries, the Augusta County Board of Supervisors, the City of Waynesboro, the Headwaters Soil and Water Conservation District, the U.S. Forest Service, the U.S. Army Corps of Engineers, and the USDA Natural Resources Conservation Service participated in the meeting.

A public meeting was held on October 30, 2003 to explain the Small Watershed Rehabilitation Program and to scope resource problems, issues, and concerns of local residents associated with the South River Watershed. Potential alternative solutions to bring the South River Watershed Dams into compliance with current dam design and safety criteria were also presented. Meeting participants provided input on issues and concerns to be considered in the planning process. A fact sheet was distributed which addressed frequently asked questions regarding the South River Watershed Dams.

A second public meeting was held on March 9, 2004 to discuss the need for landowner permission to access the property during the planning process.

A third public meeting was held on April 12, 2005 to summarize planning accomplishments, convey results of the reservoir sedimentation surveys, and present various structural alternatives. The selected alternative was identified as the most complete, acceptable, efficient, and effective plan for the watershed.

Conclusion

The Environmental Assessment summarized above indicates that this Federal action will not cause significant adverse local, regional, or national impacts on the environment. Therefore, based on the above findings, I have determined that an environmental impact statement for the recommended plan of action on South River Watershed Dams Numbers 23, 25 and 26 is not required.

M. Denise Doetzer,
State Conservationist.

[FR Doc. 05-17967 Filed 9-9-05; 8:45 am]

BILLING CODE 3410-16-P